DEPARTMENT OF LABOR

Employment and Training Administration

Investigations Regarding Eligibility To Apply for Trade Adjustment Assistance

In accordance with the Trade Act of 1974 (19 U.S.C. 2271, et seq.) (“Act”), as amended, the Department of Labor herein presents notice of investigations regarding eligibility to apply for trade adjustment assistance under Chapter 2 of the Act (“TAA”) for workers by (TA-W) started during the period of January 1, 2022 through January 31, 2022.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, Chapter 2, of the Act. Any persons showing a substantial interest in the subject matter of the investigations may request a public hearing provided such request is filed in writing with the Administrator, Office of Trade Adjustment Assistance, at the address shown below, no later than ten days after publication in Federal Register.

Initial Investigations

The following are initial investigations commenced following the receipt of a properly filed petition.

TA-W No. | Subject firm | Location | Inv start date
98,154 | Apical Industries dba DART Aerospace LTD | Vista, CA | 1/5/2022
98,155 | Slant/Fin Corporation | Greenvale, NY | 1/5/2022
98,156 | Sensata Technologies | Carpinteria, CA | 1/6/2022
98,157 | Bruker Handheld | Kennewick, WA | 1/10/2022
98,158 | MaraNatha-Hain Celestial | Ashland, OR | 1/10/2022
98,159 | CNH Industrial | Burlington, IA | 1/11/2022
98,160 | Superior Industries | Fayetteville, AR | 1/11/2022
98,161 | Aspen Surgical Products | Coralville, IA | 1/12/2022
98,162 | Carlson Paving Products (a subsidiary of Astec, Inc.) | Tacoma, WA | 1/12/2022
98,163 | Hexcel Corporation | Kent, WA | 1/12/2022
98,164 | Providence Health & Services | Mission Hills, CA | 1/13/2022
98,165 | Safari Land LLC | Ontario, CA | 1/13/2022
98,166 | ZF | Lebanon, TN | 1/13/2022
98,167 | Eca by Dekko | Shelton, CT | 1/14/2022
98,168 | The Hain Celestial Group, Inc | Lake Success, NY | 1/14/2022
98,169 | Alexander Dennis | Nappanee, IN | 1/18/2022
98,170 | Alexander Dennis | Peru, IN | 1/18/2022
98,171 | NRI Electronic | Rochester, MN | 1/20/2022
98,172 | Moxie Solar | North Liberty, IA | 1/21/2022
98,173 | Resolute Forest Products, Inc | Calhoun, TN | 1/21/2022
98,174 | Gannett Company, Inc | Stockton, CA | 1/24/2022
98,175 | Boyd Corporation | Portland, OR | 1/25/2022
98,176 | Nexplore USA | Minneapolis, MN | 1/25/2022
98,177 | Seneca Sawmill Company | Eugene, OR | 1/25/2022
98,178 | Silarx Pharmaceuticals, Inc | Carmel Hamlet, NY | 1/25/2022
98,179 | Setterstix | Cattaraugus, NY | 1/26/2022
98,180 | Siemens Industry Inc | Omaha, NE | 1/26/2022
98,181 | Sony DADC | Terre Haute, IN | 1/26/2022
98,182 | Electrolux Home Products, Inc | Memphis, TN | 1/27/2022
98,183 | M-D Metal Source | West Columbia, SC | 1/27/2022
98,184 | United Parcel Service General Service dba UPS Global Business Services Division | Dunmore, PA | 1/27/2022
98,185 | Element Electronics | Winnsboro, SC | 1/28/2022

A record of these investigations and petitions filed are available, subject to redaction, on the Department's website https://www.dol.gov/agencies/eta/tradeact under the searchable listing or by calling the Office of Trade Adjustment Assistance toll free at 888-365-6822.

Signed at Washington, DC, this 4th day of February 2022.
Hope D. Kinglock,
Certifying Officer, Office of Trade Adjustment Assistance.

[FR Doc. 2022-04714 Filed 3-4-22; 8:45 am]

BILLING CODE 4510-FN-P